DEPARTMENT OF COMMERCE

International Trade Administration

[C-533-844]

Certain Lined Paper Products From India: Rescission of Countervailing Duty Administrative Review; 2017

AGENCY: Enforcement and Compliance, International Trade Administration, Department of Commerce.

SUMMARY: The Department of Commerce (Commerce) is rescinding the administrative review of the countervailing duty (CVD) order on certain lined paper products from India for the period of review (POR) January 1, 2017, through December 31, 2017.

DATES: February 12, 2019.

FOR FURTHER INFORMATION CONTACT: John Conniff, Office III, AD/CVD Operations, Enforcement and Compliance, International Trade Administration, U.S. Department of Commerce, 14th Street and Constitution Avenue NW, Washington, DC 20230; telephone: (202) 482-1009.

SUPPLEMENTARY INFORMATION:

Background

On September 11, 2018, Commerce published a notice of opportunity to request an administrative review of the CVD order on certain lined paper products from India for the POR.¹ On October 1, 2018, Goldenpalm Manufacturers PVT Limited (Goldenpalm) filed a timely request for an administrative review of itself.² On that same day, the Association of American School Paper Suppliers (the petitioner), filed a timely request for an administrative review of Goldenpalm.³ No other interested party submitted a request for review.

¹ See Antidumping or Countervailing Duty Order, Finding, or Suspended Investigation; Opportunity to Request Administrative Review, 83 FR 45888 (September 11, 2018).

² See Letter from Goldenpalm, “Lined Paper Products from India; C-533-844; Request for Review by Goldenpalm Manufacturers PVT Limited,” dated October 1, 2018.

³ See Letter from the petitioner, “Certain Lined Paper Products from India: Request for Administrative Review,” dated October 1, 2018.

On October 18, 2018, the petitioner timely withdrew its request for review.⁴ On November 15, 2018, Commerce published in the Federal Register a notice of initiation of the administrative review with respect to Goldenpalm.⁵ Subsequently, on December 20, 2018, Goldenpalm timely withdrew its request for an administrative review.⁶

⁴ See Letter from the petitioner, “Certain Lined Paper Products from India: Withdrawal of Request for Administrative Review,” dated October 18, 2018.

⁵ See Initiation of Antidumping and Countervailing Duty Administrative Reviews, 83 FR 57411, 57418 (November 15, 2018) (Initiation).

⁶ See Letter from Goldenpalm, “Lined Paper Products from India; C-533-844; Withdrawal of Review Request,” dated December 20, 2018.

Rescission of Review

Pursuant to 19 CFR 351.213(d)(1), Commerce will rescind an administrative review, in whole or in part, if the party that requested the review withdraws its request within 90 days of the date of publication of the notice of initiation of the requested review. Goldenpalm and the petitioner, each timely submitted a withdrawal request within the 90-day period, and no other party requested an administrative review of this order. Therefore, we are rescinding, in its entirety, the administrative review of the CVD order on certain lined paper products from India covering the period January 1, 2017, through December 31, 2017, in accordance with 19 CFR 351.213(d)(1).

Assessment

Commerce will instruct U.S. Customs and Border Protection (CBP) to assess countervailing duties on all appropriate entries of certain lined paper products from India during January 1, 2017, through December 31, 2017. Countervailing duties shall be assessed at rates equal to the cash deposit rate for estimated countervailing duties required at the time of entry, or withdrawal from warehouse, for consumption, in accordance with 19 CFR 351.212(c)(1)(i). Commerce intends to issue appropriate assessment instructions to CBP 15 days after publication of this notice in the Federal Register.

Notification Regarding Administrative Protective Order

This notice also serves as a reminder to parties subject to administrative protective order (APO) of their responsibility concerning the disposition of proprietary information disclosed under an APO in accordance with 19 CFR 351.305(a)(3), which continues to govern business proprietary information in this segment of the proceeding. Timely written notification of the return or destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 6, 2019.
James Maeder,
Associate Deputy Assistant Secretary for Antidumping and Countervailing Duty Operations performing the duties of Deputy Assistant Secretary for Antidumping and Countervailing Duty Operations.

[FR Doc. 2019-02014 Filed 2-11-19; 8:45 am]

BILLING CODE 3510-DS-P